CORPORATION FOR NATIONAL AND COMMUNITY SERVICE

Agency Information Collection Activities; Submission to the Office of Management and Budget for Review and Approval; Comment Request; Schools of National Service Commitment Form

AGENCY: Corporation for National and Community Service.

ACTION: Notice of Information Collection; request for comment.

SUMMARY: The Corporation for National and Community Service, operating as AmeriCorps, has submitted a public information collection request (ICR) entitled Schools of National Service Commitment Form for review and approval in accordance with the Paperwork Reduction Act.

DATES: Written comments must be submitted to the individual and office listed in the ADDRESSES section by April 18, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling Emily Smith at 202-606-3464 or writing to EmSmith@americorps.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on December 13, 2024 at Vol. 89 100471. This comment period ended February 10, 2025. No public comments were received from this Notice.

Title of Collection: Schools of National Service Commitment Form.

OMB Control Number: 3045-0143.

Type of Review: Revision.

Respondents/Affected Public: Businesses and Organizations.

Total Estimated Number of Annual Responses: 200.

Total Estimated Number of Annual Burden Hours: 100.

Abstract: The Schools of National Service initiative, formerly the Segal Education Award Matching Program, helps higher education and post-secondary institutions connect with AmeriCorps alumni. To qualify as a School of National Service, the institution must complete a commitment form, committing to provide one or more incentives to AmeriCorps members and alumni seeking to attend their institution. This collection allows AmeriCorps and the institution to enhance the educational opportunities available to AmeriCorps alumni because of their service. AmeriCorps is seeking to revise the commitment form to add checkbox options for career and technical education (CTE) and other program types the institution may offer; add checkbox options for whether programs are offered online, in person, or both; and add a field for the institution to indicate whether it offers benefits to senior citizens and at what age eligibility begins. The revision would also delete the entry for the percentage of education award that the institution will match for AmeriCorps alumni it accepts for admission to the institution. AmeriCorps also seeks to continue using the currently approved information collection until the revised information collection is approved by OMB. The currently approved information collection is due to expire on March 31, 2025.

Rhonda Taylor,
Acting Senior Advisor for Strategic Partnerships.

[FR Doc. 2025-04620 Filed 3-18-25; 8:45 am]

BILLING CODE 6050-28-P